DEPARTMENT OF ENERGY

Federal Energy Regulatory Commission

Combined Notice of Filings #2

Take notice that the Commission received the following electric rate filings:

Docket Numbers: ER14-1107-000.

Applicants: Southern California Edison Company.

Description: SGIA and Distribution Service Agreement with CAL SP VII LLC to be effective 1/23/2014.

Filed Date: 1/22/14.

Accession Number: 20140122-5000.

Comments Due: 5 p.m. ET 2/12/14.

Docket Numbers: ER14-1108-000.

Applicants: Southern California Edison Company.

Description: GIA & Distribution Service Agmt with Victorville Landfill Solar, L.P. to be effective 1/23/2014.

Filed Date: 1/22/14.

Accession Number: 20140122-5002.

Comments Due: 5 p.m. ET 2/12/14.

Docket Numbers: ER14-1109-000.

Applicants: Foote Creek II, LLC.

Description: First Revised MBR Tariff to be effective 1/23/2014.

Filed Date: 1/22/14.

Accession Number: 20140122-5042.

Comments Due: 5 p.m. ET 2/12/14.

Docket Numbers: ER14-1110-000.

Applicants: Foote Creek III, LLC.

Description: First Revised MBR Tariff to be effective 1/23/2014.

Filed Date: 1/22/14.

Accession Number: 20140122-5043.

Comments Due: 5 p.m. ET 2/12/14.

Docket Numbers: ER14-1111-000.

Applicants: Foote Creek IV, LLC.

Description: First Revised MBR Tariff to be effective 1/23/2014.

Filed Date: 1/22/14.

Accession Number: 20140122-5044.

Comments Due: 5 p.m. ET 2/12/14.

Docket Numbers: ER14-1112-000.

Applicants: Ridge Crest Wind Partners, LLC.

Description: First Revised MBR Tariff to be effective 1/23/2014.

Filed Date: 1/22/14.

Accession Number: 20140122-5045.

Comments Due: 5 p.m. ET 2/12/14.

Docket Numbers: ER14-1113-000.

Applicants: Badger Creek Limited.

Description: Second Revised MBR to be effective 1/23/2014.

Filed Date: 1/22/14.

Accession Number: 20140122-5046.

Comments Due: 5 p.m. ET 2/12/14.

Docket Numbers: ER14-1114-000.

Applicants: Double “C” Limited.

Description: Second Revised MBR to be effective 1/23/2014.

Filed Date: 1/22/14.

Accession Number: 20140122-5047.

Comments Due: 5 p.m. ET 2/12/14.

Docket Numbers: ER14-1115-000.

Applicants: High Sierra Limited.

Description: Second Revised MBR to be effective 1/23/2014.

Filed Date: 1/22/14.

Accession Number: 20140122-5048.

Comments Due: 5 p.m. ET 2/12/14.

Docket Numbers: ER14-1116-000.

Applicants: Kern Front Limited.

Description: Second Revised MBR to be effective 1/23/2014.

Filed Date: 1/22/14.

Accession Number: 20140122-5049.

Comments Due: 5 p.m. ET 2/12/14.

Docket Numbers: ER14-1117-000.

Applicants: Michigan Power Limited Partnership.

Description: Fifth Revised MBR Tariff to be effective 1/23/2014.

Filed Date: 1/22/14.

Accession Number: 20140122-5050.

Comments Due: 5 p.m. ET 2/12/14.

Docket Numbers: ER14-1118-000.

Applicants: ArcLight Energy Marketing, LLC.

Description: 4th Revised MBR to be effective 3/23/2014.

Filed Date: 1/22/14.

Accession Number: 20140122-5051.

Comments Due: 5 p.m. ET 2/12/14.

Docket Numbers: ER14-1119-000.

Applicants: Blue Canyon Windpower LLC.

Description: 3rd Revised MBR to be effective 3/23/2014.

Filed Date: 1/22/14.

Accession Number: 20140122-5052.

Comments Due: 5 p.m. ET 2/12/14.

Docket Numbers: ER14-1120-000.

Applicants: Blue Canyon Windpower II LLC.

Description: 3rd Revised MBR to be effective 3/23/2014.

Filed Date: 1/22/14.

Accession Number: 20140122-5054.

Comments Due: 5 p.m. ET 2/12/14.

Docket Numbers: ER14-1121-000.

Applicants: Blue Canyon Windpower V LLC.

Description: 3rd Revised MBR to be effective 3/23/2014.

Filed Date: 1/22/14.

Accession Number: 20140122-5055.

Comments Due: 5 p.m. ET 2/12/14.

Docket Numbers: ER14-1122-000.

Applicants: Blue Canyon Windpower VI LLC.

Description: 2nd Revised MBR to be effective 3/23/2014.

Filed Date: 1/22/14.

Accession Number: 20140122-5056.

Comments Due: 5 p.m. ET 2/12/14.

Docket Numbers: ER14-1123-000.

Applicants: Cloud County Wind Farm, LLC.

Description: 3rd Revised MBR to be effective 3/23/2014.

Filed Date: 1/22/14.

Accession Number: 20140122-5057.

Comments Due: 5 p.m. ET 2/12/14.

Docket Numbers: ER14-1124-000.

Applicants: Sustaining Power Solutions LLC.

Description: 2nd Revised MBR to be effective 3/23/2014.

Filed Date: 1/22/14.

Accession Number: 20140122-5059.

Comments Due: 5 p.m. ET 2/12/14.

Docket Numbers: ER14-1125-000.

Applicants: New York Independent System Operator, Inc.

Description: Request for Temporary Waiver of Tariff Provisions and for Expedited Commission Acction of New York Independent System Operator, Inc.

Filed Date: 1/21/14.

Accession Number: 20140121-5244.

Comments Due: 5 p.m. ET 1/31/14.

Docket Numbers: ER14-1126-000.

Applicants: Southwest Power Pool, Inc.

Description: Request for Recovery of Charges in Accordance with Open Access Transmission Tariff Attachment AP of Southwest Power Pool, Inc.

Filed Date: 1/22/14.

Accession Number: 20140122-5090.

Comments Due: 5 p.m. ET 2/12/14.

Docket Numbers: ER14-1127-000.

Applicants: Bayou Cove Peaking Power, LLC.

Description: Bayou Cove Compliance Filing to be effective 1/23/2014.

Filed Date: 1/22/14.

Accession Number: 20140122-5098.

Comments Due: 5 p.m. ET 2/12/14.

Docket Numbers: ER14-1128-000.

Applicants: Big Cajun I Peaking Power LLC.

Description: Big Cajun Compliance Filing to be effective 1/23/2014.

Filed Date: 1/22/14.

Accession Number: 20140122-5101.

Comments Due: 5 p.m. ET 2/12/14.

Docket Numbers: ER14-1129-000.

Applicants: Energy Alternatives Wholesale, LLC.

Description: Energy Alternatives Compliance Filing to be effective 1/23/2014.

Filed Date: 1/22/14.

Accession Number: 20140122-5104.

Comments Due: 5 p.m. ET 2/12/14.

Docket Numbers: ER14-1130-000.

Applicants: Louisiana Generating LLC.

Description: Louisiana Generating Compliance Filing to be effective 1/23/2014.

Filed Date: 1/22/14.

Accession Number: 20140122-5105.

Comments Due: 5 p.m. ET 2/12/14.

Docket Numbers: ER14-1131-000.

Applicants: NRG Sterlington Power LLC.

Description: Sterlington Compliance Filing to be effective 1/23/2014.

Filed Date: 1/22/14.

Accession Number: 20140122-5106.

Comments Due: 5 p.m. ET 2/12/14.

Docket Numbers: ER14-1132-000.

Applicants: NRG Wholesale Generation LP.

Description: Wholesale Compliance Filing to be effective 1/23/2014.

Filed Date: 1/22/14.

Accession Number: 20140122-5109.

Comments Due: 5 p.m. ET 2/12/14.

Docket Numbers: ER14-1133-000.

Applicants: Cottonwood Energy Company LP.

Description: Cottonwood Compliance Filing to be effective 1/23/2014.

Filed Date: 1/22/14.

Accession Number: 20140122-5119.

Comments Due: 5 p.m. ET 2/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2014.
Nathaniel J. Davis, Sr.,
Deputy Secretary.

[FR Doc. 2014-01731 Filed 1-28-14; 8:45 am]

BILLING CODE 6717-01-P